DEPARTMENT OF HOUSING AND URBAN DEVELOPMENT

[Docket No. FR-4723-FA-18]

Announcement of Funding Awards for Fiscal Year 2002 Doctoral Dissertation Research Grant Program

AGENCY: Office of the Assistant Secretary for Policy Development and Research, HUD.

ACTION: Announcement of funding awards.

SUMMARY: In accordance with section 102(a)(4)(C) of the Department of Housing and Urban Development Reform Act of 1989, this document notifies the public of funding awards for the Fiscal Year (FY) 2002 Doctoral Dissertation Research Grant (DDRG) Program. The purpose of this document is to announce the names and addresses of the award winners and the amount of the awards to be used to help doctoral candidates complete dissertations on topics that focus on housing and urban development issues.

FOR FURTHER INFORMATION CONTACT: Susan Brunson, Office of University Partnerships, U.S. Department of Housing and Urban Development, Room 8106, 451 Seventh Street, SW., Washington, DC 20410, telephone (202) 708-3061, ext. 3852. To provide service for persons who are hearing-or-speech-impaired, this number may be reached via TTY by Dialing the Federal Information Relay Service on 800-877-8339 or 202-708-1455. (Telephone number, other than “800” TTY numbers are not toll free.)

SUPPLEMENTARY INFORMATION: The DDRG is administered by the Office of University Partnerships under the Assistant Secretary for Policy Development and Research (PD&R). This Office also administers PD&R's other grant programs for academics. The DDRG Program was created as a means of expanding the number of researchers conducting research on subjects of interest to HUD. Doctoral candidates can receive grants of up to $30,000 to complete work on their dissertations. Grants are for a two-year period.

The Office of University Partnerships under the Assistant Secretary for Policy Development and Research (PD&R) administers this program. This Office also administers PD&R's other grant programs for academics.

The Catalog of Federal Domestic Assistance number for this program is 14.516.

March 26, 2002 (67 FR 14617), HUD published a Notice of Funding Availability (NOFA) announcing the availability of $150,000 in FY 2002 funds for the EDSRG Program. The Department reviewed, evaluated and scored the applications received based on the criteria in the NOFA. As a result, HUD has funded the applications announced below, and in accordance with section 102(a)(4)(C) of the Department of Housing and Urban Development Reform Act of 1989 (103 Stat. 1987, U.S.C. 3545), the Department is publishing details concerning the recipients of funding awards, as set forth below. More information about the winners can be found at www.oup.org.

List of Awardees for Grant Assistance Under the FY 2001 Doctoral Dissertation Research Grant Program Funding Competition, by Name, Address, Grant Amount and Number of Students Funded

1. University of Louisville, Dr. Steven Bourassa, (502) 852-5720, Department of Urban and Public Affairs, 426 West Bloom Street, Louisville, KY 40208. Grant: $14,934 to Mark Wright.

2. Rutgers, the State University of New Jersey, Dr. Robert Lake, (732) 932-3133 ext. 521, Bloustein School of Planning & Policy Development, 33 Livingston Avenue, 4th Floor, New Burnswick, NJ 08901. Grant: $25,000 to Philip Ashton.

3. The Regents of the University of California, Professor Victoria Basolo, (949) 824-3521, Department of Urban and Regional Planning, 202 Social Ecology I, University Tower, Suite 300, Irvine, CA 92697-7600. Grant: $25,000 to Jennifer Gress.

4. University of Kentucky Research Foundation, Richard Schein, (859) 257-2119, Department of Geography, 201 Kinkead Hall, Lexington KY 40506-0057. Grant: $19,220 to James Hanlon.

5. University of Southern California, Dr. Lloyd Armstrong, Jr., (213) 821-1147, School of Policy, Planning and Development, RGL 312, Los Angeles, CA 90089-0626. Grant: $25,000 to Todd Gish.

6. University of California, Irvine, Katherine Tate, (949) 824-8762, 3151 Social Science Plaza, Irvine, CA 92697-5100. Grant: $10,080 to Kim DeFronzo.

7. University of Southern California, Dr. Lloyd Armstrong Jr., (213) 821-1147, School of Policy, Planning, and Development, VKC 363, University Park Campus, Los Angeles, CA 90089-0626. Grant: $25,000 to Zhou Yu.

8. Tulane University, Dr. Jeanette Jennings, (504) 862-3473, School of Social Work, Administrators of the Tulane Educational Funds, 6823 St. Charles Avenue, New Orleans, LA 70118. Grant: $24,512 to David Mainor.

9. George Washington University, Dr. Anthony Yezer, (202) 994-6755, Department of Economics, 2121 I Street, NW., Suite 601, Washington, DC 20052. Grant: $24,962 to Michael Hollar.

10. University at Albany, SUNY, Dr. John R. Logan, (518) 442-4656, Sociology Department, 1400 Washington Avenue, Albany, NY 12222. Grant: $25,000 to Deirdre Oakeley.

11. University of Texas, Dr. Robert Wilson, (512) 471-8947, LBJ School of Public Affairs, P.O. Box 7726, Austin, TX 78713-7726. Grant: $25, 000 to Mona Koerner.

12. University of Louisville, Professor Hank V. Savitch, (502) 852-7929, Department of Urban and Public Affairs, 426 West Bloom Street, Louisville, KY 40208. Grant: $25,000 to Grigoriy Ardashev.

13. University of Minnesota-Twin Cities, Dr. Ann Ziebarth, (612) 625-8795, Design, Housing and Apparel, 240 McNeal Hall, 1985 Buford Avenue, St. Paul, MN 55108. Grant: $17,902 to Eunju Hwang.

14. University of California, Los Angels, Dr. Jacqueline Leavitt, (310) 825-4380, Office of Contract and Grant Administrator, 10920 Wilshire Blvd., Suite 1200, Los Angeles, CA 90024-1406. Grant: $24,688 to Martha Matsuoka.

15. The Regents of the University of California, Professor Don Zimmerman, (805) 893-3422, Department of Sociology, Santa Barbara, CA 93106. Grant: $24,713 to Michele Wakin

16. Brandis University, Professor Mark Sciegaj, (781) 736-3800, Heller School for Social Policy and Management, P.O. Box 549110, MS#035, Waltham, MA 02454-9110. Grant $23,828 to William Bartosch.

17. Rutgers, the State University of New Jersey, Dr. Michael Greenberg, (732) 932-0387, ext. 673, School of Public Health of the University of Medicine & Dentistry, Bloustein School of Planning & Public Policy, 33 Livingston Avenue, Suite 300, New Brunswick, NJ 08901. Grant: $25,000 to Fred Ellerbush.

Dated: October 23, 2002.
Harold Bunce,
Deputy Assistant Secretary for Economic Affairs.

[FR Doc. 02-28126 Filed 11-5-02; 8:45 am]

BILLING CODE 4210-62-P